DEPARTMENT OF COMMERCE

International Trade Administration

[A-570-929]

Small Diameter Graphite Electrodes From the People's Republic of China: Initiation of Antidumping Duty New Shipper Review

AGENCY: Enforcement and Compliance, International Trade Administration, Department of Commerce.

DATES: Effective Date: September 30, 2014.

SUMMARY: The Department of Commerce (the Department) has determined that a request for a new shipper review of the antidumping duty order on small diameter graphite electrodes from the People's Republic of China (PRC), meets the statutory and regulatory requirements for initiation.

FOR FURTHER INFORMATION CONTACT: Hermes Pinilla, AD/CVD Operations Office I, Enforcement and Compliance, International Trade Administration, U.S. Department of Commerce, 14th Street and Constitution Avenue NW., Washington, DC 20230; Telephone: (202) 482-3477.

SUPPLEMENTARY INFORMATION:

Background

The antidumping duty order on small diameter graphite electrodes from the PRC published in the Federal Register on February 26, 2009.¹ Pursuant to section 751(a)(2)(B)(i) of the Tariff Act of 1930, as amended (the Act), we received a timely request for a new shipper review of the order from Xuzhou Jianglong Carbon Products Co., Ltd. (Jianglong).² Jianglong certified that it is both the producer and exporter of the subject merchandise upon which the request was based.³

¹ See Antidumping Duty Order: Small Diameter Graphite Electrodes from the People's Republic of China, 74 FR 8775 (February 26, 2009) (SDGE Order).

² See Jianglong's new shipper request dated August 29, 2014.

³ See Jianglong's new shipper request at Exhibit 1.

Pursuant to section 751(a)(2)(B)(i)(I) of the Act and 19 CFR 351.214(b)(2)(i), Jianglong certified that it did not export subject merchandise to the United States during the period of investigation (POI).⁴ In addition, pursuant to section 751(a)(2)(B)(i)(II) of the Act and 19 CFR 351.214(b)(2)(iii)(A), Jianglong certified that, since the initiation of the investigation, it has never been affiliated with any exporter or producer who exported subject merchandise to the United States during the POI, including those respondents not individually examined during the POI.⁵ As required by 19 CFR 351.214(b)(2)(iii)(B), Jianglong also certified that its export activities were not controlled by the government of the PRC.⁶

⁴ Id.

⁵ Id.

⁶ Id.

In addition to the certifications described above, pursuant to 19 CFR 351.214(b)(2), Jianglong submitted documentation establishing the following: (1) The date on which it first shipped subject merchandise for export to the United States; (2) the volume of its first shipment; and (3) the date of its first sale to an unaffiliated customer in the United States.⁷

⁷ Jianglong's new shipper request at Exhibit 1 and Jianglong's new shipper request at Exhibit 2.

Period of Review

In accordance with 19 CFR 351.214(g)(1)(B) of the Act, the period of review (POR) for new shipper reviews initiated in the month immediately following the semi-annual anniversary month will be the six-month period immediately preceding the semiannual anniversary month. Therefore, under this order, the POR is February 1, 2014, through July 31, 2014. However, the Department has used its discretion to extend the POR for Jianglong's new shipper review by one month, making the POR February 1, 2014, through August 31, 2014.⁸

⁸ When the sale of the subject merchandise occurs within the POR specified by the Department's regulations but the entry occurs after the POR, the specified POR may be extended unless it would be likely to prevent the completion of the review within the time limits set by the Department's regulations. See 19 CFR 351.214(f)(2)(ii). Additionally, the preamble to the Department's regulations states that both the entry and the sale should occur during the POR, but that under “appropriate” circumstances the Department has the flexibility to extend the POR. See Antidumping Duties; Countervailing Duties; Final Rule, 62 FR 27296, 27319-27320 (May 19, 1997). In this instance, Jianglong's sale of subject merchandise was made during the POR specified by the Department's regulations but the shipment entered after the end of that POR. The Department finds that extending the POR to capture this entry would not prevent the completion of the review within the time limits set by the Department's regulations.

Initiation of New Shipper Review

Pursuant to section 751(a)(2)(B) of the Act and 19 CFR 351.214(d)(1), the Department finds that the request from Jianglong meets the threshold requirements for initiation of a new shipper review for shipments of small diameter graphite electrodes from the PRC produced and exported by Jianglong.⁹

⁹ See the memorandum to the file entitled “Small Diameter Graphite Electrodes from the People's Republic of China: Initiation Checklist for Antidumping Duty New Shipper Review of Xuzhou Jianglong Carbon Products Co., Ltd.” dated concurrently with this notice.

The Department intends to issue the preliminary results of this new shipper review no later than 180 days from the date of initiation and final results of the review no later than 90 days after the date the preliminary results are issued.¹⁰ It is the Department's usual practice, in cases involving non-market economy countries, to require that a company seeking to establish eligibility for an antidumping duty rate separate from the country-wide rate provide evidence of de jure and de facto absence of government control over the company's export activities. Accordingly, we will issue a questionnaire to Jianglong which will include a section requesting information concerning its eligibility for a separate rate. The new shipper review of Jianglong will be rescinded if the Department determines that Jianglong has not demonstrated that it is eligible for a separate rate.

¹⁰ See section 751(a)(2)(B)(iv) of the Act.

We will instruct U.S. Customs and Border Protection to allow, at the option of the importer, the posting, until the completion of the review, of a bond or security in lieu of a cash deposit for each entry of the subject merchandise from Jianglong in accordance with section 751(a)(2)(B)(iii) of the Act and 19 CFR 351.214(e). Because Jianglong certified that it produced and exported subject merchandise, the sale of which is the basis for the request for a new shipper review, we will apply the bonding privilege to Jianglong only for subject merchandise which was produced and exported by Jianglong.

To assist in its analysis of the bona fides of Jianglong's sales, upon initiation of this new shipper review, the Department will require Jianglong to submit on an ongoing basis complete transaction information concerning any sales of subject merchandise to the United States that were made subsequent to the POR.

Interested parties requiring access to proprietary information in the new shipper review should submit applications for disclosure under administrative protective order in accordance with 19 CFR 351.305 and 351.306.

This initiation and notice are published in accordance with section 751(a)(2)(B) of the Act and 19 CFR 351.214 and 351.221(c)(1)(i).

Dated: September 24, 2014.
Christian Marsh,
Deputy Assistant Secretary for Antidumping and Countervailing Duty Operations.

[FR Doc. 2014-23289 Filed 9-29-14; 8:45 am]

BILLING CODE 3510-DS-P